DEPARTMENT OF THE TREASURY

Comment Request for Financial Literacy and Education Commission National Strategy

AGENCY: Departmental Offices, Treasury.

ACTION: Request for comments.

SUMMARY: The Financial Literacy and Education Improvement Act established the Financial Literacy and Education Commission. On behalf of the Commission, the Department of the Treasury invites the public to comment on the development of a national strategy to promote the basic financial literacy and financial education of everyone in the United States.

DATES: Comments should be received on or before October 31, 2004 to be assured of consideration.

ADDRESSES: Written comments should be sent to Department of the Treasury, Financial Literacy and Education Commission, Room 5001B, 1500 Pennsylvania Avenue NW., Washington, DC 20220, or via e-mail to flecstrategy@do.treas.gov.

FOR FURTHER INFORMATION CONTACT: Requests for additional information should be directed to Michael Schutt at (202) 622-5770 (not a toll-free call), or by e-mail to the above address.

Additional information regarding the Commission and the Department of the Treasury's Office of Financial Education may be obtained through the Office of Financial Education's Web site at: http://www.treas.gov/financialeducation.

SUPPLEMENTARY INFORMATION: The Financial Literacy and Education Improvement Act, which is Title V of the Fair and Accurate Credit Transactions Act of 2003 (the “FACT Act”) (Pub. L. 108-159), established the Financial Literacy and Education Commission to improve financial literacy and financial education of persons in the United States.

Request for Comments: Comments are specifically requested concerning: (1) What are the three most important issues that the national strategy should address, and why? (2) What existing resources may be used to address those issues, and how could they be employed? (3) What are the best ways to improve financial literacy and financial education in the United States? Commenters are urged to keep comments succinct and responsive to these questions.

The Commission: The Commission is chaired by the Secretary of the Treasury and is composed of the heads of the Office of the Comptroller of the Currency; the Office of Thrift Supervision; the Board of Governors of the Federal Reserve System; the Federal Deposit Insurance Corporation; the National Credit Union Administration; the Securities and Exchange Commission; the Departments of Education, Agriculture, Defense, Health and Human Services, Housing and Urban Development, Labor, and Veterans Affairs; the Federal Trade Commission; the General Services Administration; the Small Business Administration; the Social Security Administration; the Commodity Futures Trading Commission; and the Office of Personnel Management. The Commission is required, not later than 18 months after the date of enactment of the FACT Act, to develop a national strategy to promote basic financial literacy and education among all American consumers. The FACT Act was enacted on December 4, 2003.

Dated: August 20, 2004.
Dan Iannicola, Jr.,
Deputy Assistant Secretary of the Treasury.

[FR Doc. 04-19527 Filed 8-25-04; 8:45 am]

BILLING CODE 4810-25-P